DEPARTMENT OF HOMELAND SECURITY

Coast Guard

33 CFR Part 117

[CGD05-07-109]

Drawbridge Operation Regulations; Raccoon Creek, at Bridgeport, NJ

AGENCY: Coast Guard, DHS.

ACTION: Notice of temporary deviation from regulations.

SUMMARY: The Commander, Fifth Coast Guard District, has approved a temporary deviation from the regulations governing the operation of the Consolidated Rail Corporation (CONRAIL) Bridge, at mile 2.0, across Raccoon Creek at Bridgeport, NJ. This deviation allows the drawbridge to remain closed-to-navigation beginning at 7 a.m. on December 3, 2007, until and including 7 p.m. on January 18, 2008 to facilitate mechanical repairs.

DATES: This deviation is effective from 7 a.m. on December 3, 2007 to 7 p.m. on January 18, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The CONRAIL Bridge, a swing-type bridge, has a vertical clearance in the closed position to vessels of seven feet, above mean high water.

CONRAIL, the bridge owner, has requested a temporary deviation from the current operating regulations set out in 33 CFR Part 117.741 to close the swing bridge to navigation to perform essential mechanical repairs. The repairs will consist of removing and replacing the drive shaft and main pinion gear and repairing the steel which supports the assembly.

To facilitate the repairs, the CONRAIL Bridge will be maintained in the closed-to-navigation position beginning at 7 a.m. on December 3, 2007, until and including 7 p.m. on January 18, 2008.

In accordance with 33 CFR 117.35(e), the drawbridge must return to its regular operating schedule immediately at the end of the designated time period. This deviation from the operating regulations is authorized under 33 CFR 117.35.

Dated: October 31, 2007.
Waverly W. Gregory, Jr.,
Chief, Bridge Administration Branch, Fifth Coast Guard District.

[FR Doc. E7-22068 Filed 11-8-07; 8:45 am]

BILLING CODE 4910-15-P